DEPARTMENT OF AGRICULTURE

Economic Research Service

Notice of Intent To Request Revision of the Previously Requested Experimental Economic Research—A New Generic Clearance for Information Collection

AGENCY: Economic Research Service.

ACTION: Notice of changes and request for comments.

SUMMARY: In accordance with the Paperwork Reduction Act of 1995 and Office of Management and Budget (OMB) implementing regulations, this notice announces changes that the Economic Research Service intends to make to a previously request for a new generic clearance vehicle for information collection, namely Experimental Economic Research. On December 2, 2011 and April 24, 2012, ERS published two Notices of solicitation of comments on the aforementioned new information collection in the Federal Register (76 FR 75521-75522, December 2, 2011; 77 FR 24455, April 24, 2012). Although ERS did not receive any comments from the general public during the respective commenting periods, it has, since then, engaged in extensive discussions with the Office of Management and Budget (OMB) regarding the nature and scope of the study and the appropriateness and practicability of the proposed protection for respondent information. As a result, ERS intends to make four changes to the aforementioned information collection. Details of the changes are discussed in the SUPPLEMENTARY INFORMATION section below.

DATES: Comments on this notice must be received by March 8, 2013 to be assured consideration.

ADDRESSES: Address all comments concerning this notice to Nathaniel Higgins, Resource and Rural Economics Division, Economic Research Service, U.S. Department of Agriculture, 1400 Independence Ave. SW., Mail Stop 1800, Washington, DC 20250-1800. Comments may also be submitted via fax at 202-245-4847 or via email to nhiggins@ers.usda.gov.

FOR FURTHER INFORMATION CONTACT: Nathaniel Higgins, using the contact information listed in the ADDRESSES section above.

SUPPLEMENTARY INFORMATION: On 2 December 2011 the Economic Research Service (ERS) published a notice and request for comments pursuant to its intent to seek Office of Management and Budget Approval for a new information collection (76 FR 75521-75522) [“60-day notice”]. In that notice ERS stated that a number of research techniques, including laboratory and field techniques, exploratory interviews, pilot experiments and respondent debriefing, would be used to collect to inform or evaluate policies. ERS stated that the number of respondents would be 1,800 and the maximum total burden hours would be 2,300. Additionally, ERS stated that it complies with OMB Implementation Guidance, “Implementation Guidance for Title V of the E-Government Act, Confidential Information Protection and Statistical Efficiency Act of 2002 (CIPSEA)” (72 FR 33362, June 15, 2007). In a subsequent notice announcing that the collection had been submitted to OMB for consideration (77 FR 24455-34456, April 24, 2012) [“30-day notice”] ERS stated that the number of respondents would be 5,400 and the total burden hours would be 6,900.

The intent of this notice is to announce four changes to the clearance sought by ERS: (1) The request is being sought as a pilot of the concept of using a generic approval mechanism for the type of experiments listed above and, as such, experiments will be limited to only two topic areas at this time (conservation and nutrition); (2) ERS does not intend to use the information collected under this approval for purposes of developing or evaluating policy; (3) ERS does not intend to invoke CIPSEA for the collection, but instead intends to protect respondent information under the Privacy Act of 1974 and the E-Government Act of 2002, (4) ERS would like to amend the number of respondents to 6,900 and the number of burden hours to 7,025.

The complexity and cost necessary to invoke CIPSEA is not justified given the nature of the collection; the collections would include a very limited amount of personally-identifiable information (PII), and would generally be designed to be hosted in university computer labs, where CIPSEA compliance could not be assured. Consistent with the Privacy Act and the E-Government Act, a Systems of Records Notice (SORN) and a Privacy Impact Assessment (PIA) will be submitted for approval, as appropriate. The SORN and PIA will document the ways in which participant personally identifiable information will be collected, stored, and accessed. Data will be managed for research purposes only.

Specific details regarding information handling will be specified in individual submissions under this generic clearance, but will conform to these broad guidelines.

This notice gives the public the opportunity to comment on: (1) The appropriate and reasonable invocation of the Privacy Act of 1974, as amended and the E-Government Act of 2002 to assure that personal information collected by Federal agencies is protected, and (2) the increase in the number of respondents and the burden hours proposed by ERS. Comments should be sent to the address in the preamble. All responses to this notice will be summarized and included in the request for OMB approval. All comments will also become a matter of public record.

Dated:January 29, 2013.
Mary Bohman,
Administrator, Economic Research Service.

[FR Doc. 2013-02607 Filed 2-5-13; 8:45 am]

BILLING CODE 3410-18-P